DEPARTMENT OF HEALTH AND HUMAN SERVICES

Office of the Secretary

[Document Identifier: OS-0990-0220; 60-Day Notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Extension.

Title of Information Collection: Voluntary Academic and Industry Partner Surveys to Implement Executive Order 12862 and 5 U.S.C. 305 for the Dept. of Health and Human Services.

Form/OMB No.: 0990-0220.

Use: The Office of Acquisition Management Policy (OAMP) under the Assistant Secretary for Administration and Management (ASAM) and the Office of Grants (OG) under the Assistant Secretary for Resources and Technology (ASRT), Office of the Secretary, Department of Health and Human Services (HHS) request that the Office of Management and Budget (OMB) extend its existing approval under Clearance No. 0990-0220 for HHS to undertake voluntary surveys of HHS' partners in academia and industry (e.g., Principal Investigators, business offices, and vendors) through January 31, 2010. To comply with Executive Order 12862, Setting Customer Service Standards (the EO), HHS again plans to systematically survey its grant recipients and contractors to compile their evaluations of the Department's grants and procurement processes, and to improve the way we conduct business with them.

These voluntary surveys will continue to be a collaborative effort, with OAMP and OG providing leadership, oversight, and a methodology; and the HHS Operating Divisions (OPDIVs) conducting the surveys for their own operations. Each OPDIV will conduct web-based surveys of its partners to obtain feedback for improving business processes. The grant recipients and contractors to be surveyed are sufficiently familiar with the Department and its OPDIVs to make this feedback extremely useful. These surveys will give OAMP, OG, and each of the OPDIVs an opportunity to understand and evaluate grant and procurement quality standards, as well as to incorporate best industry or public sector standards into OPDIV practices.

Frequency: Reporting every 3 years.

Affected Public: Business or other for-profit, Not-for-profit institutions, Federal Government.

Annual Number of Respondents: 2133.

Total Annual Responses: 2133.

Average Burden per Response: 10.75 minutes.

Total Annual Hours: 382.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 60 days, and directed to the OS Paperwork Clearance Officer at the following address: Department of Health and Human Services, Office of the Secretary, Assistant Secretary for Resources and Technology, Office of Resources Management, Attention: Sherrette Funn-Coleman (0990-0220), Room 537-H, 200 Independence Avenue, SW., Washington, DC 20201.

Dated: January 23, 2007.
Alice Bettencourt,
Office of the Secretary, Paperwork Reduction Act Reports Clearance Officer.

[FR Doc. E7-1464 Filed 1-30-07; 8:45 am]

BILLING CODE 4151-17-P